DEPARTMENT OF LABOR

Employment and Training Administration

[TA-W-54,193]

Gates Corporation, Air Springs Division, Denver, Colorado; Notice of Termination of Investigation

Pursuant to Section 221 of the Trade Act of 1974, an investigation was initiated on February 6, 2004 in response to a worker petition which was filed on behalf of workers at Gates Corporation, Air Springs Division, Denver, Colorado.

An active certification covering the petitioning group of workers is already in effect (TA-W-53,647, as amended). Consequently, further investigation in this case would serve no purpose, and the investigation has been terminated.

Signed in Washington, DC, this 17th day of February 2004.
Linda G. Poole,
Certifying Officer, Division of Trade Adjustment Assistance.

[FR Doc. E4-473 Filed 3-5-04; 8:45 am]

BILLING CODE 4510-13-P